SECURITIES AND EXCHANGE COMMISSION

[Release No. 34-75073; File No. SR-CBOE-2015-022]

Self-Regulatory Organizations; Chicago Board Options Exchange, Incorporated; Notice of Withdrawal of Proposed Rule Change Related to Equipment and Communication on the Exchange's Trading Floor

May 29, 2015.

On February 20, 2015, the Chicago Board Options Exchange, Incorporated (“Exchange”) filed with the Securities and Exchange Commission (“Commission”), pursuant to Section 19(b)(1) of the Securities Exchange Act of 1934 ¹ and Rule 19b-4 thereunder,² a proposed rule change to amend the Exchange's rules relating to equipment and communication devices used on the Exchange's trading floor. The proposed rule change was published for comment in the Federal Register on March 10, 2015.³ The Commission received no comment letters on the proposal. On April 22, 2015, the Commission extended the time period for Commission action to June 8, 2015.⁴ On May 26, 2015, CBOE withdrew the proposed rule change (SR-CBOE-2015-022).

¹ 15 U.S.C. 78s(b)(1).

² 17 CFR 240.19b-4.

³ See Securities Exchange Act Release No. 74438 (March 4, 2015), 80 FR 12671.

⁴ See Securities Exchange Act Release No. 74786, 80 FR 23618 (April 28, 2015).

For the Commission, by the Division of Trading and Markets, pursuant to delegated authority.⁵
⁵ 17 CFR 200.30-3(a)(12).
Brent J. Fields,
Secretary.

[FR Doc. 2015-13617 Filed 6-3-15; 8:45 am]

BILLING CODE 8011-01-P